RAILROAD RETIREMENT BOARD

Proposed Data Collection Available for Public Comment and Recommendations

SUMMARY: In accordance with the requirement of section 3506 (c)(2)(A) of the Paperwork Reduction Act of 1995 which provides opportunity for public comment on new or revised data collections, the Railroad Retirement Board will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: System Access Application, Form BA-12, 3220-NEW.

Under section 9 of the Railroad Retirement Act (RRA) employers are required to submit reports of employee service and compensation to the Railroad Retirement Board (RRB) as needed for administering the RRA. Under section 6 of the Railroad Unemployment Insurance Act (RUIA), employers are required to submit returns of compensation of employees. The reporting requirements are specified in 20 CFR part 209 and 20 CFR 345.110.

The Government Paperwork Elimination Act (GPEA) requires Federal agencies to provide its customers the option to submit or to transact business with agencies electronically, when practical, as a substitute for paper by October 21, 2003. The RRB will propose to allow employers to submit employee reports of service and compensation routinely via the Internet during 2003.

In order to establish proper control of this process, the RRB must obtain information from employers that will identify employees who will be allowed to use the Internet to submit reporting forms to the RRB and also to determine what degree of access (view only, data entry/modification or approval/submission) is appropriate for that employee.

The RRB proposes to use new form BA-12, System Access Application, to secure the necessary information. Initially, form BA-12 will be sent to all covered employers for completion. After the initial round of responses are received, form BA-12 will be used to add/delete employee(s) access to the system, or to update previously supplied information.

Within three days of receipt of an acceptable application, the RRB will mail a logon identification and a password to the employee that will provide access to the RRB's Employer Reporting System.

This is a new information collection. Completion is voluntary and one response will be requested for each employee request for access or any subsequent access modification. The RRB estimates the annual respondent burden as follows:

Estimated number of responses: 900.

Estimated completion time per response: 10-20 minutes.

Estimated annual burden hours: 292.

Additional Information or Comments: To request more information or to obtain a copy of the information collection justification, forms, and/or supporting material, please call the RRB Clearance Officer at (312) 751-3363. Comments regarding the information collection should be addressed to Ronald J. Hodapp, Railroad Retirement Board, 844 N. Rush Street, Chicago, Illinois 60611-2092. Written comments should be received within 60 days of this notice.

Chuck Mierzwa,
Clearance Officer.

[FR Doc. 02-30788 Filed 12-4-02; 8:45 am]

BILLING CODE 7905-01-M